DEPARTMENT OF VETERANS AFFAIRS

[OMB Control No. 2900-0003]

Agency Information Collection Activities Under OMB Review

AGENCY: Veterans Benefits Administration, Department of Veterans Affairs

ACTION: Notice.

SUMMARY: In compliance with the Paperwork Reduction Act (PRA) of 1995 (44 U.S.C., 3501 et seq.), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before November 4, 2002.

FOR FURTHER INFORMATION CONTACT: Denise McLamb, Records Management Service (005E3), Department of Veterans Affairs, 810 Vermont Avenue, NW., Washington, DC 20420, (202) 273-8030, FAX (202) 273-5981 or e-mail: denise.mclamb@mail.via.gov. Please refer to “OMB Control No. 2900-0003.”

Send comments and recommendations concerning any aspect of the information collection to VA's OMB Desk Officer, OMB Human Resources and Housing Branch, New Executive Office Building, Room 10235, Washington, DC 20503 (202) 395-7316. Please refer to “OMB Control No. 2900-0003” in any correspondence.

SUPPLEMENTARY INFORMATION: Title: Application for Burial Benefits (Under 38 U.S.C. Chapter 23), VA Form 21-530.

OMB Control Number: 2900-0003.

Type of Review: Extension of a currently approved collection.

Abstract: The form is used to apply for burial benefits, including transportation expenses. The information is used to determine if the deceased veteran had appropriate service and/or disability and that the claimant has made payment for burial or has contracted to make appropriate payment.

An agency may not conduct or sponsor, and a person is not required to respond to a collection of information unless it displays a currently valid OMB control number. The Federal Register notice with a 60-day comment period soliciting comments on this collection of information was published on July 25, 2002, at page 48715.

Affected Public: Individuals or households and business or other for-profit.

Estimated Annual Burden: 100,000 hours.

Estimated Average Burden Per Respondent: 20 minutes.

Frequency of Response: On occasion.

Estimated Number of Respondents: 300,000.

Dated: September 23, 2002.
Ernesto Castro,
Director, Records Management Service.

[FR Doc. 02-25269 Filed 10-3-02; 8:45 am]

BILLING CODE 8320-01-M